DEPARTMENT OF DEFENSE

32 CFR Part 68

[Docket No. DOD-2013-OS-0093]

RIN 0790-AJ06

Voluntary Education Programs; Correction

AGENCY: Office of the Under Secretary of Defense for Personnel and Readiness, DoD.

ACTION: Proposed rule; correction.

SUMMARY: On Wednesday, August 14, 2013 (78 FR 49382-49400), the Department of Defense published a proposed rule titled Voluntary Education Programs. Subsequent to the publication of the proposed rule in the Federal Register, DoD discovered an error in § 68.5(f)(1) on page 49388. This proposed rule corrects this error.

DATES: This correction is effective on August 21, 2013.

FOR FURTHER INFORMATION CONTACT: Patricia Toppings, 571-372-0485.

SUPPLEMENTARY INFORMATION: Section 68.5(f)(1) is corrected to read as follows:

§ 68.5 [Corrected]

On page 49388, in the second column, in § 68.5(f)(1), in the fourth line, “paragraph (f) of this section” should read “paragraph (f) of § 68.6.”

Dated: August 16, 2013.
Aaron Siegel,
Alternate OSD Federal Register Liaison Officer, Department of Defense.

[FR Doc. 2013-20366 Filed 8-20-13; 8:45 am]

BILLING CODE 5001-06-P